DEPARTMENT OF COMMERCE

International Trade Administration

[A-570-905]

Certain Polyester Staple Fiber From the People's Republic of China: Final Results of Expedited Sunset Review of the Antidumping Duty Order

AGENCY: Enforcement and Compliance, International Trade Administration, Department of Commerce.

SUMMARY: As a result of this sunset review, the Department of Commerce (Commerce) finds that revocation of the antidumping duty order on certain polyester staple fiber (PSF) from the People's Republic of China (China) would likely lead to continuation or recurrence of dumping at the levels indicated in the “Final Results of Review” section of this notice.

DATES: Applicable February 23, 2018.

FOR FURTHER INFORMATION CONTACT: Paul Walker, Enforcement and Compliance, Office V, International Trade Administration, U.S. Department of Commerce, 1401 Constitution Avenue NW, Washington, DC 20230; telephone: (202) 482-0238.

SUPPLEMENTARY INFORMATION:

Background

On September 6, 2017, Commerce initiated the second sunset review of the antidumping duty order ¹ on PSF from China, pursuant to section 751(c) of the Tariff Act of 1930, as amended (the Act).² On February 16, 2016, Commerce received a timely notice of intent to participate in the sunset review from the domestic producers, pursuant to 19 CFR 351.218(d)(1)(i).³ The domestic producers in this sunset review claimed interested party status under section 771(9)(C) of the Act, as producers of the domestic like product.⁴ On October 6, 2017, the domestic producers filed a substantive response in the sunset review within the 30-day deadline, as specified in 19 CFR 351.218(d)(3)(i).⁵ Commerce did not receive a substantive response from any respondent interested party in the sunset review. On November 15, 2017, Commerce made its adequacy determination in the sunset review finding that Commerce did not receive a substantive response from any respondent interested party.⁶

¹ See Notice of Antidumping Duty Order: Certain Polyester Staple Fiber from the People's Republic of China, 72 FR 30545 (June 1, 2007) (Order).

² See Antidumping or Countervailing Duty Order, Finding, or Suspended Investigation; Advance Notification of Sunset Reviews, 82 FR 42078 (September 6, 2017).

³ See letter from the domestic producers, “Polyester Staple Fiber from China—Petitioners' Notice of Intent to Participate,” dated September 21, 2017.

⁴ The domestic producers in this sunset review are DAK Americas, LLC, Nan Ya Plastics Corporation, America and Auriga Polymers Inc.

⁵ See Substantive Response.

⁶ See Letter to the ITC from Commerce, “Sunset Reviews Initiated in September 2017,” dated November 15, 2017. In this letter, we stated that based on the lack of an adequate response in the sunset review from any respondent party, {Commerce} is conducting an expedited (120-day) sunset review consistent with section 751(c)(3)(B) of the Act and 19 CFR 351.218(e)(1)(ii)(C)(2). See also Procedures for Conducting Five-year (Sunset) Reviews of Antidumping and Countervailing Duty Orders, 63 FR 13516, 13519 (March 20, 1998) (Commerce normally will conduct an expedited sunset review where respondent interested parties provide an inadequate response).

Scope of the Order

The merchandise subject to the order is synthetic staple fibers, not carded, combed or otherwise processed for spinning, of polyesters measuring 3.3 decitex (3 denier, inclusive) or more in diameter. This merchandise is cut to lengths varying from one inch (25 mm) to five inches (127 mm). The merchandise is currently classifiable under the Harmonized Tariff Schedule (HTSUS) subheadings 5503.20.0045 and 5503.20.0065.⁷

⁷ See “Issues and Decision Memorandum for the Final Results of the Expedited Sunset Review of the Antidumping Duty Order on Certain Polyester Staple Fiber from the People's Republic of China,” dated concurrently with this notice (Issues and Decision Memorandum).

Analysis of Comments Received

All issues raised in this review are addressed in the Issues and Decision Memorandum. The issues discussed in the Issues and Decision Memorandum include the likelihood of continuation or recurrence of dumping and the magnitude of the margins likely to prevail if the Order were revoked. Parties may find a complete discussion of all issues raised in the review and the corresponding recommendations in this public memorandum which is on file electronically via Enforcement & Compliance's Antidumping and Countervailing Duty Centralized Electronic Services System (ACCESS). ACCESS is available to registered users at https://access.trade.gov and to all parties in the Central Records Unit Room B8024 of the main Commerce building. In addition, a complete version of the Issues and Decision Memorandum can be accessed directly on the web at http://trade.gov/enforcement. The signed Issues and Decision Memorandum and the electronic version of the Issues and Decision Memorandum are identical in content.

Final Results of Review

Pursuant to sections 752(c)(1) and 752(c)(1) and (3) of the Act, Commerce determines that revocation of the antidumping duty order on PSF from China would likely lead to continuation or recurrence of dumping at weighted-average margins up to 44.30 percent.

Notice Regarding Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

This sunset review and notice are in accordance with sections 751(c), 752(c), 777(i)(1) of the Act, and 19 CFR 351.218.

Dated: February 16, 2018.
Prentiss Lee Smith,
Deputy Assistant Secretary for Policy and Negotiations.

[FR Doc. 2018-03748 Filed 2-22-18; 8:45 am]

BILLING CODE 3510-DS-P